FEDERAL COMMUNICATIONS COMMISSION

47 CFR Part 15

[ET Docket No. 07-113; FCC 07-104]

Operation in the 57-64 GHz Band

AGENCY: Federal Communications Commission.

ACTION: Proposed rule.

SUMMARY: This document proposes to amend the requirements of the Commission's rules applicable to transmitters operating on an unlicensed basis in the 57-64 GHz frequency range (“the 60 GHz band”). The proposed changes would allow longer communication ranges for unlicensed point-to-point 60 GHz broadband digital systems and thereby extend the ability of such systems to supply very high speed broadband service to office buildings and other commercial facilities. The Commission believes these proposals would encourage broader deployment of point-to-point digital systems in this band without increasing the potential for harmful interference, and thereby further the Commission's objective of promoting the availability of broadband connectivity to all Americans.

DATES: Comments must be filed on or before October 17, 2007, and reply comments must be filed on or before November 16, 2007.

FOR FURTHER INFORMATION CONTACT: Anh Wride, Office of Engineering and Technology, (202) 418-0577, e-mail: Anh.Wride@fcc.gov, TTY (202) 418-2989.

ADDRESSES: You may submit comments, identified by ET Docket No. 07-113, RM-11104, by any of the following methods:

• Federal eRulemaking Portal: http://www.regulations.gov. Follow the instructions for submitting comments.

• Federal Communications Commission's Web Site: http://www.fcc.gov/cgb/ecfs/. Follow the instructions for submitting comments.

• E-mail: [Optional: Include the e-mail address only if you plan to accept comments from the general public]. Include the docket number(s) in the subject line of the message.

• Mail: [Optional: Include the mailing address for paper, disk or CD-ROM submissions needed/requested by your Bureau or Office. Do not include the Office of the Secretary's mailing address here.]

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

SUPPLEMENTARY INFORMATION: This is a summary of the Commission's Notice of Proposed Rule Making, ET Docket No. 07-113, FCC 07-104, adopted May 25, 2007, and released June 1, 2007. The full text of this document is available for inspection and copying during normal business hours in the FCC Reference Center (Room CY-A257), 445 12th Street, SW., Washington, DC 20554. The complete text of this document also may be purchased from the Commission's copy contractor, Best Copy and Printing, Inc., 445 12th Street, SW., Room, CY-B402, Washington, DC 20554. The full text may also be downloaded at: http://www.fcc.gov.

Pursuant to sections 1.415 and 1.419 of the Commission's rules, 47 CFR 1.415, 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121 (1998).

• Electronic Filers: Comments may be filed electronically using the Internet by accessing the ECFS: http://www.fcc.gov/cgb/ecfs/ or the Federal eRulemaking Portal: http://www.regulations.gov. Filers should follow the instructions provided on the Web site for submitting comments.

• For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail (although we continue to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail should be addressed to 445 12th Street, SW., Washington, DC 20554.

People with Disabilities: To request materials in accessible formats for people with disabilities (braille, large print, electronic files, audio format), send an e-mail to fcc504@fcc.gov or call the Consumer & Governmental Affairs Bureau at 202-418-0530 (voice), 202-418-0432 (tty).

Summary of Notice of Proposed Rulemaking

1. The Notice of Proposed Rule Making (“NPRM”), proposes to amend the requirements in part 15 of the Commission's rules applicable to transmitters operating on an unlicensed basis in the 57-64 GHz frequency range (“the 60 GHz band”). The Commission granted the Petition for Rule Making submitted by the Wireless Communications Association (WCA) and proposes to increase the fundamental radiated emission limit for unlicensed 60 GHz transmitters with very high gain antennas, specify the emission limit as an equivalent isotropically radiated power (“EIRP”) level, and eliminate the requirement for a transmitter identification for 60 GHz transmitters. The Commission also proposes to increase the current part 15 average power EIRP level from 40 dBm to a new level of 82 dBm minus 2 dB for every dB that antenna gain is below 51 dBi. The Commission also proposes to increase the current part 15 peak power EIRP level from 43 dBm to a new level of 85 dBm minus 2 dB for every dB that the antenna gain is below 51 dBi. These increases would be limited to 60 GHz transmitters located outdoors or those located indoors with emissions directed outdoors, e.g. through a window. The proposed changes would allow longer communication ranges for unlicensed point-to-point 60 GHz broadband digital systems and thereby extend the ability of such systems to supply very high speed broadband service to office buildings and other commercial facilities. The Commission believes these proposals would encourage broader deployment of point-to-point digital systems in this band without increasing the potential for harmful interference, and thereby further the Commission's objective of promoting the availability of broadband connectivity to all Americans.

2. The Wireless Communications Association International, Inc. filed a Petition for Rulemaking requesting that the Commission amend its rules for 60 GHz devices to implement certain changes related to operation with very high gain antennas. WCA requests that the average emission limit for point-to-point systems employing very high gain antennas be specified in EIRP and that the limits be increased to 82 dBm less 2 dB for every dB that the systems' antenna gain is below 51 dBi. It submits that the proposed higher EIRP levels for 60 GHz equipment with an antenna exceeding a specific amount of gain would foster the development of products with longer operating range that could offer high speed communications to compete with, complement, or extend the broadband services provided on existing media. It states that under the existing rules, outdoor link distances are effectively limited to 700 meters in most cities. WCA states that operation at the higher EIRP level it requests would enable an increase in operating range, on the order of 1.5 kilometers, that would permit the delivery of multi-gigabit broadband services to an “exponentially larger number of office buildings and other commercial properties.” It further submits that specification of the power limit in EIRP units would remove confusion in measurements involving very high gain antennas. WCA states that 60 GHz devices could comply with either the EIRP specification or the existing power density standards. In addition, WCA requests that the Commission eliminate the transmitter identification requirement for “window links,” i.e., for transmitters that are located indoors but direct their emissions through a window to the outside, which would reduce installation costs for 60 GHz products.

3. The Commission proposes to allow operation at higher power levels by 60 GHz unlicensed equipment with an antenna exceeding a specific gain. The Commission believes that this has the potential to foster the development of a variety of products with longer operating ranges than are achieved under the current rules and promote the 60 GHz band's potential as a vehicle for broadband transmission links in addition to services offered by incumbent providers. This would promote the development of very high speed wireless products for environments where obstacles such as highways, parking lots, etc., prevent extension of fiber or wireline connections, or as a means to serve as broadband link or backhaul for an entire building or campus, where adding new cables could result in major construction costs. The Commission also proposes to adopt for 60 GHz equipment a radiated emission limit specified in EIRP for 60 GHz equipment using very high gain antennas that would facilitate emission measurements. The Commission further proposes to allow emission measurements in EIRP as an alternative for all other 60 GHz devices. Finally, the Commission proposes to eliminate the transmitter identification requirement for indoor 60 GHz transmitters whose emissions are directed outdoors, and it seeks comment on eliminating the transmitter identification requirement for all indoor 60 GHz transmitters. The Commission believes that these proposals would promote greater utility for the 60 GHz band without increasing the interference risk to existing services in the band and would encourage a more flexible development of broadband data products. The Commission also notes that 60 GHz consumer applications are now being developed and our proposals herein would help bring valuable new services to consumers, and advance economic opportunities for the American public, consistent with the Commission's objectives.

4. The Commission proposes to increase the average emission limit for point-to-point systems employing very high gain antennas and for the reasons discussed in the following section, to specify this higher limit in EIRP units. Specifically, it proposes to increase the average EIRP power limit for systems employing very high gain antennas to 82 dBm less 2 dB for every dB that the systems' antenna gain is below 51 dBi. The Commission further proposes that this increase in the emission level be limited to 60 GHz transmitters located outdoors or those located indoors with emissions directed outdoors, e.g., through a window. This proposal would allow eligible devices to operate with as much as a 42 dB increase in their emission level. As WCA states, with higher power 60 GHz devices will be able to increase link distances to provide very high speed wireless service to a greater number of locations than is currently possible. The Commission believes that allowing higher power operations by systems with very high gain antennas would foster the development of high speed communication products with longer operating range and lower costs, and thereby promote the availability of broadband services.

5. The Commission believes that several factors will offset any increase in the interference potential between equipment with very high gain antennas and other devices in the 60 GHz band. First, the very high gain antennas used would be highly directional, reducing the probability that a low power, omnidirectional system would be located within its beamwidth. Second, it is likely that low power devices primarily will operate indoors because of their shorter range, whereas, very high gain, directional systems, which have a longer emission range, primarily will be located outdoors or will have their signals directed outdoors. Thus, the emissions from directional systems, as seen by lower power indoors devices, will be attenuated significantly from intervening objects, such as building walls. Third, oxygen and water vapor absorption and scattering should further reduce ranges at which the radiated emission levels from 60 GHz equipment with very high gain antennas could cause interference. To reduce the interference risk between very high gain and other of 60 GHz devices, the Commission proposes to require that equipment with very high gain antennas operating under the proposed high power limit only operate outdoors or direct their emissions outdoors, e.g., through a window. Thus, it believes that the risk of interference from higher power, directional 60 GHz transmission systems to lower power, omnidirectional systems will be minimal. While the Commission anticipates that consumer applications for wireless interconnections in the 60 GHz band are forthcoming, the 60 GHz devices that are now being marketed are intended for enterprise and commercial use; therefore, there is no immediate risk of interference to 60 GHz unlicensed consumer devices.

6. The Commission believes that a limit on the peak radiated emission level should continue to apply to 60 GHz emissions. Under the current standards, the peak power density may not exceed 18 μW/cm² at 3 meters (43 dBm EIRP). This is 3 dB higher than the average power density limit. It believes that a similar 3 dB relationship between the maximum peak and average emission limits should apply to all 60 GHz systems, whether they comply with a limit based on power density or on EIRP. The Commission proposes to apply a peak limit of 85 dBm minus 2 dB for every dB that the antenna gain is less than 51 dBi to 60 GHz systems operating under the higher proposed average power limit. The Commission also proposes to retain the existing limits on spurious emissions and peak transmitter output power.

7. Comments are requested on the various aspects of this proposal to modify the emission limit for 60 GHz equipment with very high gain antennas. The Commission requests comments accompanied by analysis on any interference concerns along with methods that may be suitable for mitigating such concerns. It also requests comments on the feasibility of using extremely high antenna gains, e.g., greater than 51 dBi.

8. Because the far field of a 60 GHz device with a very high gain antenna begins at a distance much farther than the 3 meters measurement distance specified in the rules, the Commission believes it is appropriate to specify the emission limits for those devices only in EIRP. However, in the case of devices with lower gain antennas, the far field distance is generally closer to the 3 meters measurement distance. The Commission also recognizes that some parties may still wish to demonstrate compliance of devices with lower gain antennas under the existing power density limits and measurement procedures. The Commission proposes to maintain the existing power density limits for devices other than very high gain systems as an alternative to the EIRP limits. It seeks comments on this proposal and on the amount of antenna gain above which use of the EIRP limits would be mandatory. Comments are requested on the various aspects of this proposal to express the emission limits as EIRPs as alternatives to the existing power density standards. Comments are also requested on whether the Commission should continue to specify measurements using the existing power density limits as an alternative to measurements using the proposed EIRP limits or if it should delete the power density limits in favor of EIRP limits.

9. Antenna Substitution. Section 15.204(c)(4) of the rules allows intentional radiators to be marketed and used with any antenna that is of the same type and of equal or less directional gain as the antenna authorized with the equipment. The Commission notes that the comments contained considerable discussion regarding the Commission's emission limits for the 60 GHz band and their relationship to the RF exposure guidelines at the time the emission limits were adopted. The Commission is concerned here that the emission levels it proposes in this proceeding continue to remain below the current RF exposure guidelines. Intentional radiators must be designed to ensure that the public is not exposed to RF energy in excess of the Commission's guidelines. In some cases, this could require that transmitters operate at a lower emission level than the maximum limit specified in the rules. The Commission notes that the near field and antenna surface RF exposure levels may increase as the size of the antenna decreases. Thus, the use of a lower gain antenna could result in a transmission system that is more likely to exceed the RF exposure guidelines. In addition, the proposed rule changes would require that the maximum EIRP decrease as the antenna gain is reduced below 51 dBi. Because of these considerations, the Commission believes that 60 GHz systems operating under the higher power EIRP standards should be marketed and used only with the specific model antenna(s) with which the transmitter is certified. For these reasons, the Commission proposes to specify that the provisions contained in section 15.204(c) of the rules permitting antenna substitutions not apply to 60 GHz transmission systems operating under the proposed higher EIRP limits. The Commission requests comment on this proposal.

10. The Commission propose not to require transmitter identification for any indoors transmitters whose emissions are directed outdoors, e.g., through a window, and seek comment on this proposal. It believes that any interference potential likely will be localized around a window link, and that any 60 GHz emissions that are reflected from the glass in a window link will be attenuated by the walls and other surrounding objects and will not impact operations in adjacent areas, primarily affecting equipment located in the same room as the window link. In most cases, all equipment within the same room will be under the control of the same user. Thus, potential interference to other co-located units appears to be a frequency management problem that should be addressed by the equipment user. Because of this, it appears that the source of any such interference could be easily identified without the need for a transmitter identification signal. Further, the Commission believes that it is more likely that any 60 GHz emissions that are reflected from the glass in a window link will be attenuated by the walls and other surrounding objects and will not impact operations in adjacent areas. It seeks comment on this proposal.

11. The Commission also seeks comment on whether the transmitter identification requirement should be eliminated for all 60 GHz systems. It believes that the proximity of indoors co-located equipment should allow the user to identify the interfering transmitter to other indoors devices without having to use the transmitter identification feature. If interference should be experienced from a transmitter that is not co-located, the Commission questions whether the 60 GHz receiver experiencing the interference would be able to detect and demodulate an identification signal from a transmitter that may be operating using a different modulation format. Because manufacturers may voluntarily choose to incorporate the transmitter identification and specifications for transmitter identification could reside in industry standards, the Commission question the need to maintain a requirement that adds costs to equipment design and installation.

Initial Regulatory Flexibility Analysis

12. As required by the Regulatory Flexibility Act of 1980, as amended (RFA),¹ the Commission has prepared this present Initial Regulatory Flexibility Analysis (IRFA) of the possible significant economic impact on a substantial number of small entities by the policies and rules proposed in the Notice of Proposed Rule Making (NPRM). Written public comments are requested on this IRFA. Comments must be identified as responses to the IRFA and must be filed by the deadlines for comments provided in paragraph 23 of this NPRM. The Commission will send a copy of the NPRM, including this IRFA, to the Chief Counsel for Advocacy of the Small Business Administration (SBA).²

¹ See 5 U.S.C. 603. The RFA, see 5 U.S.C. 601-612, has been amended by the Small Business Regulatory Enforcement Fairness Act of 1996 (SBREFA), Public Law 104-121, Title II, 110 Stat. 847 (1996).

² See 5 U.S.C. 603(a).

A. Need for, and Objectives of, the Proposed Rules

13. The rule making proposal was initiated to obtain comments regarding proposed changes to the regulations for radio frequency devices that do not require a license to operate. The Commission seeks to determine if the standards should be amended to permit an increase in the allowable emitted signal level for systems using very high gain directional antennas, to permit the emissions from 60 GHz systems to be measured as an equivalent isotropically radiated power instead of as a power density, and to eliminate the need for all 60 GHz systems to emit a transmitter identification signal.

B. Legal Basis

14. The proposed action is taken pursuant to Sections 4(i), 301, 302, 303(e), 303(f), 303(r), 304 and 307 of the Communications Act of 1934, as amended, 47 U.S.C. 154(i), 301, 302, 303(e), 303(f), 303(r), 304 and 307.

C. Description and Estimate of the Number of Small Entities to Which the Proposed Rules Will Apply

15. The RFA directs agencies to provide a description of and, where feasible, an estimate of the number of small entities that may be affected by the proposed rules, if adopted.³ The RFA generally defines the term “small entity” as having the same meaning as the terms “small business,” “small organization,” and “small governmental jurisdiction.” ⁴ In addition, the term “small business” has the same meaning as the term “small business concern” under the Small Business Act.⁵ A small business concern is one which: (1) Is independently owned and operated; (2) is not dominant in its field of operation; and (3) satisfies any additional criteria established by the SBA.⁶

³ 5 U.S.C. 603(b)(3).

⁴ 5 U.S.C. 601(6).

⁵ 5 U.S.C. 601(3) (incorporating by reference the definition of “small business concern” in 15 U.S.C. 632). Pursuant to the RFA, the statutory definition of a small business applies “unless an agency, after consultation with the Office of Advocacy of the Small Business Administration and after opportunity for public comment, establishes one or more definitions of such term which are appropriate to the activities of the agency and publishes such definition(s) in the Federal Register.” 5 U.S.C. 601(3).

⁶ Small Business Act, 15 U.S.C. 632 (1996).

16. We do not expect that the rules proposed in the NPRM will have a significant negative economic impact on small businesses.

D. Description of Projected Reporting, Recordkeeping, and Other Compliance Requirements

17. Part 15 transmitters already are required to be authorized under the Commission's certification procedure as a prerequisite to marketing and importation. The reporting and recordkeeping requirements associated with these equipment authorizations would not be changed by the proposals contained in the NPRM. The changes to the regulations would permit operation at a higher emission level, would permit a new method of measuring compliance with the emission limits, and would eliminate the need for transmitters in the 60-GHz band to incorporate a transmitter identification system.

E. Federal Rules that May Duplicate, Overlap or Conflict With the Proposed Rules

None.

Ordering Clauses

18. Pursuant to sections 1, 4(i), 7(a), 301, 303(f), 303(g), 303(r), 307(e) and 332 of the Communications Act of 1934, as amended, 47 U.S.C. 151, 154(i), 157(a), 301, 303(f), 303(g), 303(r), 307(e), and 332, the NPRM is adopted and the Petition for Rule Making by the Wireless Communications Association filed on September 30, 2004, is hereby granted to the extent described herein.

19. The Commission's Consumer and Governmental Affairs Bureau, Reference Information Center, shall send a copy of the NPRM, including the Initial Regulatory Flexibility Analysis to the Chief Counsel for Advocacy of the Small Business Administration.

List of Subjects in 47 CFR Part 15

Communications equipment.

Federal Communications Commission.
Marlene H. Dortch,
Secretary.

Proposed Rule Changes

For the reasons discussed in the preamble, the Federal Communications Commission proposes to amend part 15 of Title 47 of the CFR to read as follows:

PART 15—RADIO FREQUENCY DEVICES

1. The authority citation for part 15 continues to read as follows:

Authority: 47 U.S.C. 154, 302a, 303, 304, 307, 336 and 544a.

2. Section 15.204 is amended by revising paragraph (c) introductory text to read as follows:

§ 15.204 External radio frequency power amplifiers and antenna modifications.

* * * * *

(c) An intentional radiator may be operated only with the antenna with which it is authorized. If an antenna is marketed with the intentional radiator, it shall be of a type which is authorized with the intentional radiator. An intentional radiator may be authorized with multiple antenna types. Exceptions to the following provisions, if any, are noted in the rule section under which the transmitter operates, e.g., see § 15.255 (b)(1)(ii) of this part.

* * * * *

3. Section 15.255 is amended by removing paragraph (i) and revising paragraphs (b)(1), (c)(3), (e) to read as follows:

§ 15.255 Operation within the band 57-64 GHz.

* * * * *

(b) * * *

(1) Products other than fixed field disturbance sensors shall comply with one of the following emission limits, as measured during the transmit interval:

(i) The average power density of any emission shall not exceed 9 μW/cm² and the peak power density of any emission shall not exceed 18 μW/cm², both as measured at 3 meters from the radiating structure provided, however, that 3 meters is in the far field of the emission. If 3 meters is not in the far field, the measurements shall be performed at whatever greater distance is necessary to result in the measurement being performed in the far field and the results shall be extrapolated to a distance of 3 meters, as specified in Section 15.31(f)(1) of this part. As an alternative to these spectral density emission limits, the average power density of any emission shall not exceed an equivalent isotropically radiated power (EIRP) level of 40 dBm and the peak power density of any emission shall not exceed an EIRP of 43 dBm.

(ii) As an alternative to paragraph (b)(1)(i) of this section, for transmitters located outdoors or located indoors with emissions directed outdoors, e.g. through a window, the average power density of any emission shall not exceed an EIRP level of 82 dBm minus 2 dB for every dB that the antenna gain is less than 51 dBi. The peak power density of any emission shall not exceed 85 dBm minus 2 dB for every dB that the antenna gain is less than 51 dBi. The provisions of section 15.204(c) of this part that permit the use of different antennas of the same type and of equal or less directional gain do not apply to intentional radiator systems operating under this provision. In lieu thereof, intentional radiator systems shall be certified using the specific antenna(s) with which the system will be marketed and operated. Compliance testing shall be performed using the highest gain and the lowest gain antennas for which certification is being sought. Testing shall be performed with the intentional radiator operated at its maximum available output power level. The responsible party, as defined in section 2.909 of this chapter, shall supply a list of acceptable antennas with the application for certification.

* * * * *

(c) * * *

* * * * *

(3) Between 40 GHz and 200 GHz, the level of these emissions shall not exceed an EIRP of −10 dBm or, alternatively, a power density of 90 pW/cm² at a distance of 3 meters. If a power density measurement is performed and 3 meters is not within the far field, the measurements shall be performed at whatever greater distance is necessary to result in the measurement being in the far field and the results shall be extrapolated to a distance of 3 meters as specified in section 15.31(f)(1) of this part.

* * * * *

(e) Except as specified below, the total peak transmitter output power shall not exceed 500 mW. Depending on the gain of the antenna, it may be necessary to operate the intentional radiator using a lower peak transmitter output power in order to comply with the power density limits or EIRP limits specified in paragraph (b) of this section.

* * * * *

[FR Doc. E7-13832 Filed 7-18-07; 8:45 am]

BILLING CODE 6712-01-P